DEPARTMENT OF TRANSPORTATION

Federal Aviation Administration

14 CFR Part 39

[Docket No. FAA-2010-0960; Directorate Identifier 98-ANE-09-AD; Amendment 39-16620; AD 98-09-27R1]

RIN 2120-AA64

Airworthiness Directives; Rolls-Royce plc RB211-Trent 768, 772, and 772B Turbofan Engines

AGENCY: Federal Aviation Administration (FAA), DOT.

ACTION: Final rule.

SUMMARY: We are rescinding an existing airworthiness directive (AD) for the products listed above. The existing AD, AD 98-09-27, resulted from aircraft certification testing which revealed that stresses on the thrust reverser hinge were higher than had been anticipated during engine certification, and the United Kingdom Civil Aviation Authority, issuing AD 008-03-97. Since we issued AD 98-09-27, we discovered that its requirements were duplicated in airplane-level AD 2001-09-14, issued by the FAA Transport Airplane Directorate. We proposed to rescind the engine-level AD.

DATES: This AD becomes effective April 11, 2011.

ADDRESSES: The Docket Operations office is located at Docket Management Facility, U.S. Department of Transportation, 1200 New Jersey Avenue, SE., West Building Ground Floor, Room W12-140, Washington, DC 20590-0001.

FOR FURTHER INFORMATION CONTACT: Alan Strom, Aerospace Engineer, Engine Certification Office, FAA, Engine & Propeller Directorate, 12 New England Executive Park, Burlington, MA 01803; e-mail: alan.strom@faa.gov; telephone (781) 238-7143; fax (781) 238-7199.

SUPPLEMENTARY INFORMATION:

Discussion

On April 23, 1998, the FAA Engine & Propeller Directorate issued engine AD 98-09-27 (63 FR 24911, May 6, 1998). On April 30, 2001, the FAA Transport Airplane Directorate issued airplane AD 2001-09-14 (66 FR 23838, May 10, 2001). Those ADs both require the same initial and repetitive visual inspections of Rolls-Royce plc RB211-Trent 768 and 772 series turbofan engine thrust reverser hinge lugs and attachment ribs for cracks, and, if necessary, removal from service and replacement with serviceable parts.

Since we issued engine AD 98-09-27 and airplane AD 2001-09-14, we determined that duplicate ADs to address the same unsafe condition were unnecessary. We issued a notice of proposed rulemaking (NPRM) to amend 14 CFR part 39 to include an AD that would apply to the specified products. That NPRM was published in the Federal Register on November 15, 2010 (75 FR 69611), and proposed to rescind AD 98-09-27, Amendment 39-10508 (63 FR 24911, May 6, 1998).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We received no comments on the proposal.

Conclusion

We reviewed the available data and determined that air safety and the public interest require adopting the AD as proposed.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by rescinding airworthiness directive (AD) 98-09-27, Amendment 39-10508 (63 FR 24911, May 6, 1998):

98-09-27R1 Rolls-Royce plc: Amendment 39-16620. Docket No. FAA-2010-0960; Directorate Identifier 98-ANE-09-AD.

Effective Date

(a) This AD becomes effective April 11, 2011.

Affected ADs

(b) This AD rescinds AD 98-09-27.

Applicability

(c) This AD applies to Rolls-Royce plc RB211-Trent 768, 772, and 772B turbofan engines. These engines are installed on, but not limited to, Airbus A330-341 and A330-342 series airplanes.

Issued in Burlington, Massachusetts, on February 24, 2011.
Peter A. White,
Acting Manager, Engine and Propeller Directorate, Aircraft Certification Service.

[FR Doc. 2011-4831 Filed 3-4-11; 8:45 am]

BILLING CODE 4910-13-P